ELECTION ASSISTANCE COMMISSION

Proposed Rule of Agency Procedure No. 1: Procedures for Voting by Circulation Version 2.0

AGENCY: U.S. Election Assistance Commission.

ACTION: Notice and request for public comment on Proposed Rule of Agency Procedure No. 1: Procedures for Voting by Circulation Version 2.0.

SUMMARY: The U.S. Election Assistance Commission (EAC) seeks public comment on Proposed Rule of Agency Procedure No. 1: Procedures for Voting by Circulation Version 2.0. EAC's current Proposed Rule of Agency Procedure No. 1: Procedures for Voting by Circulation provide the public with the process, including timelines on how EAC Commissioners vote to approve matters requiring formal Commission action that has not been placed on a meeting agenda. The policy requires action within specified time periods to allow a thorough and predictable time period for EAC Commissioners to consider the matter. Because of the firm deadlines, the current policy limits EAC's ability to address the rare situations that require swift action. The proposed policy amends the Rule of Agency Procedure No. 1: Procedures for Voting by Circulation to provide for unforeseeable circumstances that may require deviation from the default timelines indicated.

DATES: Written comments must be submitted on or before 4 p.m. EDT on June 1, 2010.

Comments: Public comments are invited on the information contained in the policy. Comments on the proposed policy should be submitted electronically to HAVAcomments@eac.gov. Written comments on the proposed policy can also be sent to the U.S. Election Assistance Commission, 1201 New York Avenue, NW., Suite 300, Washington, DC 20005, ATTN: Proposed Rule of Agency Procedure No. 1: Procedures for Voting by Circulation Version 2.0.

Obtaining a Copy of the Policy: To obtain a free copy of the policy: (1) Access the EAC Web site at http://www.eac.gov; (2) write to the EAC (including your address and phone number) at U.S. Election Assistance Commission, 1201 New York Avenue, NW., Suite 300, Washington, DC 20005, ATTN: Proposed Rule of Agency Procedure No. 1: Procedures for Voting by Circulation Version 2.0.

FOR FURTHER INFORMATION CONTACT: Andrew Guggenheim or Tamar Nedzar, Election Assistance Commission, 1201 New York Avenue, NW., Suite 300, Washington, DC 20005; Telephone: 202-566-3100.

Donetta L. Davidson,
Chair, U.S. Election Assistance Commission.

[FR Doc. 2010-9911 Filed 4-28-10; 8:45 am]

BILLING CODE 6820-KF-P